DEPARTMENT OF THE INTERIOR

Fish and Wildlife Service

[FWS-R1-ES-2019-N094; FXES11130100000-190- FF01E00000]

Endangered and Threatened Wildlife and Plants; Draft Amendment to the Recovery Plan for the Rough Popcornflower

AGENCY: Fish and Wildlife Service, Interior.

ACTION: Notice of availability; request for comment.

SUMMARY: We, the U.S. Fish and Wildlife Service (Service), announce the availability of a draft amendment updating the recovery criteria in the Recovery Plan for the Rough Popcornflower (Plagiobothrys hirtus). Rough popcornflower, listed as endangered under the Endangered Species Act (ESA), is an annual herb in the borage family (Boraginaceae), endemic to wet swales and meadows in Douglas County, Oregon. We are updating recovery criteria to better assist in determining when the species has recovered to the point that it may be reclassified as threatened, or that the protections afforded by the ESA are no longer necessary and the species may be removed from the ESA's protections. We request review of this draft recovery plan amendment and invite comments from local, State, Tribal, and Federal agencies, nongovernmental organizations, and the public.

DATES: To ensure consideration, we must receive written comments on or before November 25, 2019. However, we will accept information about the species at any time.

ADDRESSES: Reviewing documents: If you wish to review the draft recovery plan amendment, you may obtain copies on our website, at https://ecos.fws.gov/docs/recovery_plan/Draft_Amendment_Rough_Popcornflower_Recovery_Plan_2019.pdf. You may also request copies of the draft recovery plan amendment by contacting Michele Zwartjes at the U.S. mail or email address below.

Submitting comments: If you wish to comment, submit your comments by one of the following methods:

1. U.S. Mail or Hand-Delivery: You may submit written comments and materials to Field Supervisor, Attention: Rough Popcornflower Recovery Plan Amendment, Oregon Fish and Wildlife Office, U.S. Fish and Wildlife Service, 2600 SE 98th Ave., Suite 100, Portland, OR 97266; or

2. Email: You may send comments by email to fw1ofwo@fws.gov. Please include “Rough Popcornflower Draft Recovery Plan Amendment Comments” in the subject line.

FOR FURTHER INFORMATION CONTACT: Michele Zwartjes, Recovery Coordinator, at the above Oregon Fish and Wildlife Office mailing address and email, or by telephone at 503-231-6179. Individuals who are hearing impaired may call the Federal Relay Service at 800-877-8339 for TTY assistance.

SUPPLEMENTARY INFORMATION:

Background

We, the U.S. Fish and Wildlife Service (Service), announce the availability of a draft recovery plan amendment, which updates recovery criteria for the rough popcornflower.

Recovery of endangered or threatened animals and plants to the point where they are again secure, self-sustaining members of their ecosystems is a primary goal of our endangered species program and the ESA. Recovery means improvement of the status of listed species to the point at which listing is no longer appropriate under the criteria set out in section 4(a)(1) of the ESA. The ESA requires the development of recovery plans for listed species, unless such a plan would not promote the conservation of a particular species.

The purpose of a recovery plan is to provide a feasible and effective roadmap for a species' recovery, with the goal of improving its status and managing its threats to the point at which protections under the ESA are no longer needed. Recovery plans must be designed so that all stakeholders and the public understand the rationale behind the recovery program, whether they were involved in writing the plan or not, and recognize their role in its implementation. We are requesting submission of any information that enhances the necessary understanding of the species' biology and threats and its recovery needs and related implementation issues or concerns, to ensure that we have assembled, considered, and incorporated the best available scientific and commercial information into the draft recovery plan amendment.

Recovery plans provide important guidance to the Service, States, other partners, and the general public on methods of minimizing threats to listed species and objectives against which to measure the progress towards recovery; they are guidance and not regulatory documents. A recovery plan identifies, organizes, and prioritizes recovery actions and is an important guide that ensures sound scientific decision-making throughout the recovery process, which can take decades.

Recovery Plan Amendment

Keeping recovery plans current ensures that threatened species and endangered species benefit through timely partner-coordinated implementation of recovery actions.

A review of a recovery plan and its implementation may show that the plan is out of date or that the plan's usefulness is limited and the plan warrants modification. The need for, and extent of, recovery plan modifications will vary considerably among recovery plans, depending on the scope and complexity of the initial plan, the structure of the document, and the involvement of stakeholders. Recovery plan modifications can range from relatively minor updates to a substantial rewrite that revises the existing plan in part (i.e., an amendment to one of the sections that modifies the existing plan), or in full (i.e., a full revision that completely replaces the existing plan). The need for a recovery plan amendment or revision may be triggered when, among other possibilities: (1) New information has been identified, such as population-level threats to the species or previously unknown life-history traits, which necessitates new or revised recovery strategy, actions, or criteria, or revision of all three in order to maintain the adequacy of the plan; and (2) the current plan is not achieving its objectives. Amendments and revisions benefit endangered and threatened species, our partners, and the public by keeping recovery plans consistent with current information about what is needed for species' recovery.

Substantive amendment of recovery plans requires public notice and comment under section 4(f)(4) of the ESA, including: (1) A Federal Register notice of availability to give opportunity for public review and comment, (2) consideration of all information presented during the public comment period, and (3) approval by the Regional Director. When finalized, this recovery plan amendment will be made publicly available on the internet through our Environmental Conservation Online System (ECOS, https://ecos.fws.gov).

Recovery Plan for Rough Popcornflower

The Service approved a recovery plan for rough popcornflower in 2003; however, the original plan did not establish criteria for removing rough popcornflower from the Federal List of Endangered and Threatened Plants (delisting).

Since the publication of the recovery plan in 2003, new information has been gathered on the species' biology, distribution, and threats, leading us to propose modifiying the original downlisting criteria (reclassifying rough popcornflower from endangered to threatened status) and to develop new delisting criteria. Therefore, this document describing these criteria will serve as a draft amendment to the 2003 recovery plan.

The recovery criteria established in a recovery plan (such as those proposed in this draft recovery plan amendment) will serve as an indicator that a review of the species' status is advisable, and we may consider downlisting, or if appropriate, removal from the Federal List of Endangered and Threatened Plants following a five factor analysis in accordance with section 4(a)(1) of the ESA.

Request for Public Comments

Section 4(f) of the ESA requires us to provide public notice and an opportunity for public review and comment during recovery plan development. It is also our policy to request peer review of recovery plans (July 1, 1994; 59 FR 34270). In an appendix to the approved recovery plan amendment, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan amendment.

We invite written comments on the draft recovery plan amendment. In particular, we are interested in additional information regarding the current threats to the species, ongoing beneficial management efforts, and the costs associated with implementing the recommended recovery actions.

Public Availability of Comments

All comments received, including names and addresses, will become part of the administrative record and will be available to the public. Before including your address, phone number, email address, or other personal identifying information in your comment, you should be aware that your entire comment—including your personal identifying information—will be publicly available. If you submit a hardcopy comment that includes personal identifying information, you may request at the top of your document that we withhold this information from public review. However, we cannot guarantee that we will be able to do so. Comments and materials we receive will be available, by appointment, for public inspection during normal business hours at our office (see ADDRESSES).

Authority

The authority for this action is section 4(f) of the Endangered Species Act (16 U.S.C. 1533 (f)).

Dated: August 8, 2019.
Robyn Thorson,
Regional Director, Pacific Region.

[FR Doc. 2019-23317 Filed 10-24-19; 8:45 am]

BILLING CODE 4333-15-P